DEPARTMENT OF ENERGY

Meeting

Agency Holding Meeting: Federal Energy Regulatory Commission

FEDERAL REGISTER CITATION OF PREVIOUS ANNOUNCEMENT: March 11, 2002, 67 FR 10907

PREVIOUSLY ANNOUNCED TIME AND DATE OF MEETING: March 13, 2002, 10 a.m.

CHANGE IN THE MEETING: The following Docket No. and Company has been added to Item E-10 on the Commission Meeting of March 13, 2002.

Item No., Docket No., and Company

E-10—EL02-64-000, Northern California Power Agency v. Pacific Gas and Electric Company and the California Independent System Operator Corporation

Magalie R. Salas,
Secretary.

[FR Doc. 02-6554 Filed 3-14-02; 8:45 am]

BILLING CODE 6717-01-P